DEPARTMENT OF HEALTH AND HUMAN SERVICES

Centers for Disease Control and Prevention

Board of Scientific Counselors, National Center for Injury Prevention and Control, (BSC, NCIPC)

AGENCY: Centers for Disease Control and Prevention (CDC), Department of Health and Human Services (HHS).

ACTION: Notice of closed meeting.

SUMMARY: In accordance with the Federal Advisory Committee Act, the CDC announces the following meeting for the Board of Scientific Counselors, National Center for Injury Prevention and Control, (BSC, NCIPC).

DATES: The meeting will be held on March 14, 2019, 2:00 p.m. to 5:00 p.m., EDT (CLOSED).

ADDRESSES: Teleconference.

FOR FURTHER INFORMATION CONTACT: Gwendolyn H. Cattledge, Ph.D., M.S.E.H., Deputy Associate Director for Science, NCIPC, CDC, 4770 Buford Highway NE, Mailstop F-63, Atlanta, GA 30341, Telephone (770) 488-3953, Email address: NCIPCBSC@cdc.gov.

SUPPLEMENTARY INFORMATION: The meeting will be closed to the public in accordance with provisions set forth in Section 552b(c)(4) and (6), Title 5 U.S.C., and the Determination of the Chief Operating Officer, Office of the Chief Operating Officer, CDC, pursuant to Public Law 92-463.

Purpose: The Board of Scientific Counselors makes recommendations regarding policies, strategies, objectives, and priorities; and reviews progress toward injury and violence prevention. The Board also provides advice on the appropriate balance of intramural and extramural research, and guidance on the needs, structure, progress and performance of intramural programs. The Board also provides guidance on extramural scientific program matters, including the: (1) Review of extramural research concepts for funding opportunity announcements; (2) conduct of secondary peer review of extramural research grants, cooperative agreements, and contracts applications received in response to the funding opportunity announcements as they relate to the Center's programmatic balance and mission; (3) submission of secondary review recommendations to the Center Director relating to applications to be considered for funding support; (4) review of research portfolios, and (5) review of program proposals.

Matters to be Considered: The agenda will include discussions on Secondary Peer Review of extramural research grant and cooperative agreement applications received in response to one (1) Notice of Funding Opportunities (NOFO): CE19-001, Injury Control Research Centers. Agenda items are subject to change as priorities dictate.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-00298 Filed 1-29-19; 8:45 am]

BILLING CODE 4163-19-P